SECURITIES AND EXCHANGE COMMISSION

Sunshine Act Meetings

TIME AND DATE: Notice is hereby given, pursuant to the provisions of the Government in the Sunshine Act, Public Law 94-409, that the Securities and Exchange Commission Investor Advisory Committee will hold a public meeting on Thursday, March 11, 2021. The meeting will begin at 10:00 a.m. (ET) and will be open to the public.

PLACE: The meeting will be conducted by remote means and/or at the Commission's headquarters, 100 F St. NE, Washington, DC 20549. Members of the public may watch the webcast of the meeting on the Commission's website at www.sec.gov.

STATUS: This Sunshine Act notice is being issued because a majority of the Commission may attend the meeting. On February 17, 2021, the Commission published notice of the Committee meeting (Release Nos. 33-10927, 34-91150), indicating that the meeting is open to the public and inviting the public to submit written comments to the Committee.

MATTER TO BE CONSIDERED: The agenda for the meeting includes: Welcome remarks; approval of previous meeting minutes; a follow-on panel discussion regarding self-directed individual retirement accounts (IRAs); a panel discussion regarding special purpose acquisition companies (SPACs); a discussion of a recommendation regarding minority and underserved inclusion; a discussion of a recommendation regarding credit rating agencies; subcommittee reports; and a non-public administrative session.

CONTACT PERSON FOR MORE INFORMATION: For further information and to ascertain what, if any, matters have been added, deleted or postponed; please contact Vanessa A. Countryman from the Office of the Secretary at (202) 551-5400.

Dated: March 1, 2021.
Vanessa A. Countryman,
Secretary.

[FR Doc. 2021-04490 Filed 3-1-21; 4:15 pm]

BILLING CODE 8011-01-P